DEPARTMENT OF LABOR

Employment and Training Administration

[TA-W-85,697]

ATI Specialty Alloys and Components Albany Operations, 34th Avenue, a Subsidiary of Alleghany Technologies Incorporated, Including Workers Whose Wages Are Reported Under Oregon Metallurgical and TDY Industries and Including On-Site Leased Workers From Kelly Services, LBCC, Cadd Connections, Evergreen Engineering, Jibe Consulting, and Oregon Industrial Albany, Oregon; Amended Certification Regarding Eligibility To Apply for Worker Adjustment Assistance and Alternative Trade Adjustment Assistance

In accordance with Section 223 of the Trade Act of 1974, as amended (“Act”), 19 U.S.C. 2273, the Department of Labor issued a Certification of Eligibility to Apply for Worker Adjustment Assistance and Alternative Trade Adjustment Assistance on March 11, 2015, applicable to workers of ATI Specialty Alloys and Components, Albany Operations, 34th Avenue, including on-site leased workers from Kelly Services, LBCC, Cadd Connections, Evergreen Engineering, Jibe Consulting, and Oregon Industrial, Albany, Oregon. The Department's Notice of Determination was published in the Federal Register on April 13, 2015 (80 FR 19394).

At the request of a State Workforce Office, the Department reviewed the certification for workers of the subject firm. The workers are engaged in in activities related to the production of titanium ingot and mill products.

New information shows that workers separated from employment at ATI have their wages reported through a separate federal employer identification number (FEIN) under the name of Oregon Metallurgical and TDY Industries.

The intent of the Department's certification is to include all workers of the subject firm who were adversely affected by increased imports of titanium ingot and mill products. Accordingly, the Department is amending this certification to properly reflect this matter.

The amended notice applicable to TA-W-85,697 is hereby issued as follows:

All workers of ATI Specialty Alloys and Components, Albany Operations, 34th Avenue, including on-site leased workers from Kelly Services, LBCC, Cadd Connections, Evergreen Engineering, Jibe Consulting, and Oregon Industrial, Albany, Oregon, including workers whose wages are reported under Oregon Metallurgical and TDY Industries, who became totally or partially from employment on or after July 4, 2014, through March 11, 2017, are eligible to apply for adjustment assistance under Chapter 2 of Title II of the Trade Act of 1974, as amended, and are also eligible to apply for alternative trade adjustment assistance under Section 246 of the Trade Act of 1974, as amended.

Signed in Washington, DC, this 9th day of June, 2015.
Hope D. Kinglock,
Certifying Officer, Office of Trade Adjustment Assistance.

[FR Doc. 2015-17425 Filed 7-15-15; 8:45 am]

BILLING CODE 4510-FN-P